DEPARTMENT OF TRANSPORTATION

Federal Motor Carrier Safety Administration

[Docket No. FMCSA-2006-25756]

Commercial Driver's License Standards; Application for Exemption; Volvo Trucks North America, Inc

AGENCY: Federal Motor Carrier Safety Administration (FMCSA), DOT.

ACTION: Notice of application for exemption; request for comments.

SUMMARY: The FMCSA announces that Volvo Trucks North America, Inc. (Volvo) has applied for an exemption from the Federal requirement that drivers of commercial motor vehicles (CMVs) have a commercial driver's license (CDL). Volvo requests that the exemption cover three Swedish engineers who will test-drive CMVs for Volvo within the United States. Each of the three Volvo employees currently holds a Swedish CDL. Volvo states that it requests the exemption to support Volvo field tests on future air-quality standards and to evaluate the performance of Volvo vehicles in “real world” environments.

DATES: Comments must be received on or before January 22, 2007.

ADDRESSES: Your comments may be submitted by any of the following methods:

• Docket Management System (DMS) Web site at http://dmses.dot.gov/submit, under the last five digits of Docket No. FMCSA-2006-25756, and following the online instructions for submitting comments;

• Fax: 1-202-493-2251;

• Mail: Docket Management Facility; U.S. Department of Transportation, 400 Seventh Street, SW., Nassif Building, Room PL-401,Washington, DC 20590-0001;

• Hand Delivery: Room PL-401 on the plaza level, 400 Seventh Street, SW., Washington, DC, between 9 a.m. and 5 p.m., Monday through Friday, except Federal holidays; or

• Federal eRulemaking Portal at http://www.regulations.gov following the online instructions for submitting comments.

Docket: To read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want to be notified that we received your comments by mail or hand delivery, please include a self-addressed, stamped envelope or postcard. If you submit comments on line, you will be provided an opportunity to print an acknowledgement page.

Privacy Act: Anyone may view or download comments submitted in any of DOT's dockets by searching under the name of the commenter or name of the person signing the comment (if submitted on behalf of an association, business, labor union, or other entity). You may view DOT's complete Privacy Act Statement in the Federal Register published on April 11, 2000, at 65 FR 19477. It is also available at http://dms.dot.gov.

FOR FURTHER INFORMATION CONTACT: Mr. Thomas Yager, Chief, Driver and Carrier Operations Division, Office of Bus and Truck Standards and Operations, MC-PSD, Federal Motor Carrier Safety Administration, DOT, 400 Seventh Street, SW., Washington, DC 20590; Telephone: 202-366-4009. E-mail: MCPSD@dot.gov.

SUPPLEMENTARY INFORMATION:

Background

The Federal Motor Carrier Safety Administration (FMCSA) may grant exemptions from its safety regulations based on 49 U.S.C. Chapter 313 and 31136. The Agency has published procedures for submission and handling of requests for exemption (49 CFR Part 381). Upon receipt of a request, FMCSA must publish a notice of it in the Federal Register. This provides the public an opportunity to inspect the information relevant to the application, including any safety analyses that have been conducted, and to comment on the request for exemption.

The Agency must review the safety analyses and the public comments and determine whether granting the exemption would likely achieve a level of safety equivalent to, or greater than, the level that would be achieved by the current regulation (49 CFR 381.305). If this standard is not satisfied, we cannot grant the request. The FMCSA must publish the Agency's decision in the Federal Register (49 CFR 381.315(b)). If the Agency denies the request, we must state the reason for doing so. If the Agency grants the exemption, we must specify the person or class of persons receiving the exemption, the regulatory provision or provisions from which exemption is being granted, the effective period of the exemption (up to 2 years), and the terms and conditions of the exemption. An exemption may be renewed (49 CFR 381.300(b)).

On two recent occasions, FMCSA has published notices concerning similar Volvo requests. The first notice was the granting of an exemption to Volvo for 11 Swedish CDL drivers permitting them to operate CMVs in the United States (71 FR 27780, May 12, 2006). The second notice sought public comment on another application by Volvo seeking exemption for seven Swedish CDL drivers for similar purposes (71 FR 45095, August 8, 2006).

Volvo's Application for Exemption

Volvo has applied for an exemption from 49 CFR 383.23, one of the CDL rules. This section sets forth the licensing requirements for drivers operating CMVs in excess of 26,000 pounds gross vehicle weight rating in interstate or intrastate commerce. Volvo wishes to operate such CMVs in the United States and requests an exemption because its driver-employees are citizens and residents of Sweden and as such cannot obtain a CDL in any State of the United States. A copy of the application is in Docket No. FMCSA-2006-25756.

The exemption would allow three drivers to operate CMVs as part of a team of drivers supporting a Volvo field test of U.S. air-quality standards and test-driving prototype Volvo vehicles. Locations include Volvo's test site and the vicinity of Phoenix, Arizona, thereby allowing Volvo to obtain test results in “real world” environments.

The drivers are: Hans Leif Esbjorn Berg, Lars Ingemar Karlsson, and Rolf Stefan Wikner. Each holds a valid Swedish CDL and has driving experience in large trucks. Volvo has submitted a copy of the Swedish driving record of each of these drivers, and each has a driving record free of violations.

The FMCSA has previously determined that the process for obtaining a Swedish-issued CDL adequately assesses the driver's ability to operate CMVs in the United States. The standards for a Swedish CDL are comparable to, and as demanding as, the Federal requirements of Part 383.

Request for Comments

FMCSA requests public comment from all interested persons on Volvo's application for an exemption for these three drivers from the CDL requirement of 49 CFR 383.23. See 49 U.S.C. 31315(b)(4) and 31136(e). The Agency will consider all comments received by close of business on January 22, 2007. Comments will be available for examination in the docket.

We will consider comments received after the comment closing date to the extent practicable.

Issued on: December 15, 2006.
John H. Hill,
Administrator.

[FR Doc. E6-21913 Filed 12-21-06; 8:45 am]

BILLING CODE 4910-EX-P